DEPARTMENT OF AGRICULTURE

Forest Service

36 CFR Part 242

DEPARTMENT OF THE INTERIOR

Fish and Wildlife Service

50 CFR Part 100

[FWS-R7—SM-2009-0001; 701 01-I 261-0000L6]

RIN 1018-AW3O

Subsistence Management Regulations for Public Lands in Alaska—2010-11 and 2011-12 Subsistence Taking or Wildlife Regulations

AGENCIES: Forest Service, Agriculture; Fish and Wildlife Service, Interior.

ACTION: Proposed rule; withdrawal.

SUMMARY: In accordance with the January 20, 2009, memorandum “Regulatory Review,” signed by Chief of Staff Rahm Emanuel, we, the U.S. Forest Service and U.S. Fish and Wildlife Service, withdraw our proposed rule published January 29, 2009, to establish regulations for hunting and trapping seasons, harvest limits, methods, and means related to taking of wildlife for subsistence uses in Alaska during the 2010-11 and 2011-12 regulatory years.

DATES: Effective February 4, 2009, the Forest Service and the Fish and Wildlife Service withdraw the joint proposed rule published January 29, 2009 (74 FR 5127).

FOR FURTHER INFORMATION CONTACT: For Fish and Wildlife Service questions, contact Peter 3. Probasco, Chair, Federal Subsistence Board, c/o U.S. Fish and Wildlife Service, Office of Subsistence Management, at (907) 786-3888 (telephone) or subsistence@fws.gov (e-mail). For National Forest System lands questions, contact Steve Kessler, Regional Subsistence Program Leader, USDA, Forest Service, Alaska Region, at (907) 743-9461 (telephone).

SUPPLEMENTARY INFORMATION:

Background

Under Title VIII of the Alaska National Interest Lands Conservation Act (ANILCA) (16 U.S.C. 3111-3126), the Secretary of the Interior and the Secretary of Agriculture (Secretaries) jointly implement the Federal Subsistence Management Program (program). This program grants a preference for subsistence uses of fish and wildlife resources on Federal public lands and waters in Alaska. The Secretaries originally published regulations to carry out the program in the Federal Register on May 29, 1992 (57 FR 22940), and the program has subsequently amended these regulations several times. Because this program is a joint effort between Interior and Agriculture, its regulations are located in two titles of the Code of Federal Regulations (CFR): Title 36, “Parks, Forests, and Public Property,” and Title 50, “Wildlife and Fisheries,” at 36 CFR 242.1-28 and 50 CFR 100.1-28, respectively.

Among other things, subpart D of these regulations set forth specific harvest seasons and limits. Subpart D regulations are subject to periodic review and revision. The Federal Subsistence Board completes the biennial process of revising subsistence hunting and trapping regulations for wildlife in even-numbered years and subsistence fishing and shellfish regulations in odd-numbered years; public proposal and review processes take place during the preceding year. The Board also addresses customary and traditional use determinations during the applicable biennial cycle.

On January 29, 2009 (74 FR 5127), we published a proposed rule in the Federal Register revising the subpart D regulations that set forth specific harvest seasons and limits for wildlife and the subpart C customary and traditional use determinations. The text of the 2008-10 subparts C and D final rule that published June 24, 2008 (73 FR 35726), serve as the text for our 2010-12 subparts C and D proposed rule (January 29, 2009, 74 FR 5127).

We are withdrawing this rule because publication did not follow the requirements set forth in a January 20, 2009, memorandum signed by the President's Chief of Staff. That memorandum requires Administration appointees to review rules prior to publication. This rule did not receive complete Administration review.

For more about the background and structure of the Federal Subsistence Program, Federal Subsistence Board, and Federal Subsistence Regional Advisory Councils; our Public Review Process involving Comments, Proposals, and Public Meetings; Compliance with Statutory and Regulatory Authorities; and discussion of our original proposed rule, see 74 FR 5127.

Dated: January 29, 2009.
Rowan Gould,
Acting Director, U.S. Fish and Wildlife Service.
Dated: February 3, 2009.
Abigail Kimbell,
Chief of the U.S. Forest Service.

[FR Doc. E9-2608 Filed 2-4-09; 11:15 am]

BILLING CODES 3410-11-P; 4310-55-P